DEPARTMENT OF JUSTICE

Drug Enforcement Administration

Frank W. Nedock, D.D.S.; Revocation of Registration

On or about April 6, 2001, the Deputy Assistant Administrator, Office of Diversion Control, Drug Enforcement Administration (DEA), issued an Order to Show Cause (OTSC) to Frank W. Nedock, D.D.S., at his DEA registered premises in Bloomfield Township, Michigan, notifying him of an opportunity to show cause as to why the DEA should not revoke his DEA Certificate of Registration, AN7738048, and deny any pending applications for renewal of said registration, for reason that such registration is inconsistent with the public interest as determined pursuant to 21 U.S.C. 823(f). The OTSC also notified Dr. Nedock that, should no request for hearing be filed within 30 days, the right to a hearing would be waived.

The OTSC was personally served upon Dr. Nedock by a DEA Diversion Investigator May 4, 2001. To date, no response has been received from Dr. Nedock nor anyone purporting to represent him.

Therefore, the Deputy Administrator of the DEA, finding that (1) thirty days having passed since receipt of the Order to Show Cause, and (2) no request for a hearing having been received, concludes that Dr. Nedock is deemed to have waived his rights to a hearing. Following a complete review of the investigative file in this matter, the Deputy Administrator now enters his final order without a hearing pursuant to 21 CFR 1301.43(d) and (e) and 1301.46.

The Deputy Administrator finds as follows. On June 27, 2000, the State of Michigan Bureau of Health Service, Board of Dentistry (Board), issued a Final Order prohibiting Dr. Nedock from prescribing any controlled substances in Schedules I through IV. On December 26, 2000, the Board's Disciplinary Subcommittee issued an Administrative Complaint to Dr. Nedock alleging that he wrote 125 Schedule III controlled substance prescriptions during the period between July 27, 2000, and October 10, 2000, in violation of the Board's Final Order. On January 2, 2001, the Board issued an Order of Summary Suspension suspending Dr. Nedock's license to practice dentistry.

In response, Dr. Nedock issued a letter dated January 6, 2001, to the Michigan Department of the Attorney General, alleging that an employee of that office was “* * * in violation of my Recorded Copyright * * * [that] mandates issue(s) and user(s) in violation of the Recorded Copyright be charged one million dollars of silver species [sic] in lawful coinage of the United States per use per fiction.”

On February 13, 2001, the DEA Detroit office was notified that controlled substance prescriptions written by Dr. Nedock were being presented to local pharmacies. On February 23, 2001, a DEA investigator met with Dr. Nedock and informed him that he was not permitted to prescribe controlled substances.

On February 15, 2001, the Board held a hearing regarding Dr. Nedock's suspension. Although he was present, Dr. Nedock refused to admit his identity, and instead identified himself as the “trustee fiduciary creditor of the secured party.” On March 5, 2001, a patient presented a prescription issued by Dr. Nedock for a controlled substance at a local pharmacy. That same day, DEA investigators learned that the same patient also received a controlled substance prescription from Dr. Nedock February 26, 2001. Substantial evidence in the investigative file shows Dr. Nedock continues to practice dentistry even though his license has been suspended.

The investigative file contains no evidence that Dr. Nedock's license has been reinstated. Therefore, the Deputy Administrator concludes that Dr. Nedock is not currently authorized to practice dentistry in Michigan, the State in which he maintains his DEA Certificate of Registration.

The DEA does not have the statutory authority pursuant to the Controlled Substances Act to issue or to maintain a registration if the applicant or registrant is without state authority to handle controlled substances in the state in which he or she practices. See 21 U.S.C. 823(f) and 824(a)(3). This prerequisite has been consistently upheld in prior DEA cases. See Graham Travers Schuler, M.D., 65 FR 50,570 (2000); Romeo J. Perez, M.D., 62 FR 16,193 (1997); Demetris A. Green, M.D., 61 FR 60,728 (1996); Dominick A. Ricci, M.D., 58 FR 51,014 (1993).

In the instant case, the Deputy Administrator finds the Government has presented evidence demonstrating that Dr. Nedock is not authorized to practice dentistry in Michigan, and therefore, the Deputy Administrator infers that Dr. Nedock is also not authorized to handle controlled substances in Michigan, the state in which he holds his DEA Certificate of Registration.

Accordingly, the Deputy Administrator of the Drug Enforcement Administration, pursuant to the authority vested in him by 21 U.S.C. 823 and 824 and 28 CFR 0.100(b) and 0.104, hereby orders that the DEA Certificate of Registration AN7738048, previously issued to Frank W. Nedock, D.D.S., be, and it hereby is, revoked. The Deputy Administrator hereby further orders that any pending applications for renewal or modification of said registration be, and hereby are, denied. This order is effective June 19, 2002.

Dated: May 6, 2002.
John B. Brown III,
Deputy Administrator.

[FR Doc. 02-12486 Filed 5-17-02; 8:45 am]

BILLING CODE 4410-09-M